DEPARTMENT OF COMMERCE

National Oceanic and Atmospheric Administration

RTID 0648-XU010

Meeting of the Columbia Basin Partnership Task Force of the Marine Fisheries Advisory Committee

AGENCY: National Marine Fisheries Service (NMFS), National Oceanic and Atmospheric Administration (NOAA), Department of Commerce.

ACTION: Notice of open public meeting.

SUMMARY: This notice sets forth the proposed schedule and agenda of a forthcoming meeting of the Marine Fisheries Advisory Committee's (MAFAC's) Columbia Basin Partnership Task Force (CBP Task Force). The CBP Task Force will discuss the issues outlined in the SUPPLEMENTARY INFORMATION below.

DATES: The meeting will be June 2 and June 3, 2020, 9 a.m.-3 p.m., Pacific Time (PT).

ADDRESSES: Meeting is by conference call and webinar.

FOR FURTHER INFORMATION CONTACT: Katherine Cheney; NFMS West Coast Region; 503-231-6730; email: Katherine.Cheney@noaa.gov.

SUPPLEMENTARY INFORMATION: Notice is hereby given of a meeting of MAFAC's CBP Task Force. The MAFAC was established by the Secretary of Commerce (Secretary) and, since 1971, advises the Secretary on all living marine resource matters that are the responsibility of the Department of Commerce. The MAFAC charter is located online at https://www.fisheries.noaa.gov/topic/partners#marine-fisheries-advisory-committee-. The CBP Task Force reports to MAFAC and is being convened to develop recommendations for long-term goals to meet Columbia Basin salmon recovery, conservation needs, and harvest opportunities, in the context of habitat capacity and other factors that affect salmon mortality. More information is available at the CBP Task Force web page: http://www.westcoast.fisheries.noaa.gov/columbia_river/index.html.

Matters To Be Considered

The meeting time and agenda are subject to change. Meeting topics include discussion of scenarios for achieving Columbia Basin salmon and steelhead goals; social, cultural, economic, and ecosystem considerations; options for future collaboration; and content of the Phase 2 report.

Time and Date

The meeting is scheduled for June 2 and June 3, 2020, 9 a.m.-3 p.m., PT by conference call and webinar. Access information for the public will be posted by May 26, 2020 at https://www.fisheries.noaa.gov/event/columbia-basin-partnership-task-force-meeting-materials-and-summaries.

Jennifer L. Lukens,
Federal Program Officer, Marine Fisheries Advisory Committee, National Marine Fisheries Service.

[FR Doc. 2020-10889 Filed 5-15-20; 4:15 pm]

BILLING CODE 3510-22-P